DEPARTMENT OF AGRICULTURE

Forest Service

Northwest Sacramento Provincial Advisory Committee

AGENCY: USDA Forest Service.

ACTION:

Notice of meeting.

SUMMARY: The Northwest Sacramento Provincial Advisory Committee (PAC) will meet on October 18, and 19, 2004, in Redding and Willows, California. The purpose of the meeting is to conduct annual implementation monitoring of two projects completed in previous years, relating to standards and guidelines in the Northwest Forest Plan (NFWP).

DATES: The meeting will be held from 8 a.m. to 5:30 p.m. October 18 and 19, 2004.

ADDRESSES: The meeting will be held in the field both days, beginning at the Trinity Conference Room in the Shasta-Trinity National Forest Headquarters, 3644 Avtech Parkway, Redding, CA, 96002.

FOR FURTHER INFORMATION CONTACT: Julie Nelson, Northwest Sacramento PAC staff liaison, USDA, Shasta-Trinity National Forest, 3644 Avtech Parkway, Redding, CA, 96002; (530) 226-2429; e-mail: jknelson@fs.fed.us.

SUPPLEMENTARY INFORMATION: The two projects to be monitored are: (1) Green Mountain Prescribed Fire, Shasta Lake Ranger District of the Shasta-Trinity National Forest; and (2) Salt Log Timber Sale Burn, Grindstone Ranger District of the Mendocino National Forest. The meeting is open to the public.

Dated: September 14, 2004.
Thomas Contreras,
Acting Designated Federal Official.

[FR Doc. 04-21047 Filed 9-17-04; 8:45 am]

BILLING CODE 3410-11-M